DEPARTMENT OF LABOR

Office of the Secretary

Submission for OMB Review: Comment Request

August 18, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov website at http://www.reginfo.gov/public/do/PRAMain or by contacting Mary Beth Smith-Toomey on 202-693-4223 (this is not a toll-free number)/e-mail: DOL_PRA_PUBLIC@dol.gov.

Interested parties are encouraged to send comments to the Office of Information and Regulatory Affairs, Attn: OMB Desk Officer for the Department of Labor—ESA, Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Revision of a currently approved collection.

Title of Collection: Health Insurance Claim Form.

OMB Control Number: 1215-0055.

Agency Form Number: OWCP-1500.

Affected Public: Private Sector, Businesses and other for-profits.

Total Estimated Number of Respondents: 749,104.

Total Estimated Annual Burden Hours: 359,359.

Total Estimated Annual Costs Burden (does not include hour costs): $0.

Description: Form OWCP-1500 is used by OWCP and contractor bill payment staff to process bills for medical services provided by medical professionals other than medical services provided by hospitals, pharmacies and certain other medical providers. OWCP is adding the data elements National Provider Identifier (NPI) and taxonomy number, which will be 32a and 33a on the revised OWCP-1500. This information is required to pay health care providers for services rendered to injured employees covered under the Office of Worker's Compensation Programs—administered programs. Appropriate payment cannot be made without documentation of the medical services that were provided by the health care provider that is billing OWCP. The information obtained to complete claims under these programs is used to identify the patient and determine their eligibility. It is also used to decide if the services and supplies received are covered by these programs and to assure that proper payment is made. For additional information, see related notice published at Volume 74 FR 10778 on March 12, 2009.

Agency: Employment Standards Administration.

Type of Review: Extension without change of a currently approved collection.

Title of Collection: Authorization for Release of Medical Information (Black Lung Benefits).

OMB Control Number: 1215-0057.

Agency Form Number: CM-936.

Affected Public: Individuals and households.

Total Estimated Number of Respondents: 900.

Total Estimated Annual Burden Hours: 75.

Total Estimated Annual Costs Burden (does not include hour costs): $0.

Description: The CM-936 is used to obtain the black lung claimant's authorization for the Division of Coal Mine Workers' Compensation to request medical evidence in support of the black lung claim. For additional information, see related notice published at Volume 74 FR 15005 on April 2, 2009.

Darrin A. King,
Departmental Clearance Officer.

[FR Doc. E9-20272 Filed 8-21-09; 8:45 am]

BILLING CODE 4510-CK-P